DEPARTMENT OF THE INTERIOR

Fish and Wildlife Service

Notice of Intent To Prepare a Comprehensive Conservation Plan and Associated Environmental Assessment for the Aransas National Wildlife Refuge Complex in Aransas, Refugio, and Calhoun Counties, Texas

AGENCY: Fish and Wildlife Service, Department of the Interior.

ACTION: Notice of Intent to prepare a Comprehensive Conservation Plan and Associated Environmental Assessment for the Aransas National Wildlife Refuge Complex.

SUMMARY: This notice advises the public that the Fish and Wildlife Service (Service) intends to gather information necessary to prepare a Comprehensive Conservation Plan (CCP) and environmental documents pursuant to the National Environmental Policy Act (NEPA) and its implementing regulations, for the Aransas National Wildlife Refuge Complex (ANWRC) headquartered near Austwell, Texas. The ANWRC is located in Aransas, Refugio and Calhoun Counties and includes the Matagorda Island Unit.

The Service is issuing this Notice in compliance with the National Wildlife Refuge System Administration Act of 1966, as amended (16 U.S.C. 668dd et seq.):

(1) To advise other agencies, organizations and the public of our intentions, and

(2) To obtain suggestions and information on the scope of issues to be considered in the planning process.

DATES: Special mailings, newspaper articles, postings, and media announcements will inform people of opportunities for written input throughout the CCP planning process. Refuge fact sheets will be made available at local libraries in the surrounding communities. This notice of intent/public scoping process will continue until October 29, 2002. Written comments submitted by mail or e-mail should be postmarked by that date to ensure consideration. Comments mailed after that date will be considered to the extent practical. Inquire at the following address for future dates of planning activity and due dates for comments.

ADDRESSES: Address comments and requests for more information to: Charles Holbrook, Refuge Manager, Aransas NWRC, CCP-Project, PO Box 100, Austwell, TX 77950, phone:(361) 286-3559, fax: (361) 286-3722.

Information concerning this Refuge may be also found at the following website: http://southwest.fws.gov.

Comments submitted via E-mail should be addressed to Bernice Jackson at bernice_jackson@fws.gov or Felipe Prieto at felipe_prieto@fws.gov. Additionally, you may hand-deliver comments to Mr. Holbrook, Mrs. Jackson or Mr. Prieto at Aransas National Wildlife Refuge, 7 miles southeast of Austwell, Texas on FM 2040. Our practice is to make comments, including names and addresses of respondents, available for public review during regular business hours. Individual respondents may request that we withhold their home address from the rulemaking record, which we will honor to the extent allowable by law.

FOR FURTHER INFORMATION CONTACT: Carol Torrez, Division of Planning, PO Box 1306, Albuquerque, NM 87103-1306.

SUPPLEMENTARY INFORMATION: The National Wildlife Refuge System Improvement Act of 1997 requires that all lands within the National Wildlife Refuge System (NWRS) be managed in accordance with an approved CCP. The CCP guides management decisions and identifies refuge goals, long-range objectives and strategies for achieving refuge purposes. Each Refuge in the NWRS has specific purposes for which it was established. Those purposes are used to develop and prioritize management goals and objectives within the National Wildlife Refuge System mission and to guide which public uses will occur on a given refuge.

The planning process will consider many elements, including habitat and wildlife management, habitat protection and acquisition, wilderness preservation, public recreational opportunities, industrial use and cultural resources. Public input into this planning process is essential. The planning process is a way for the Service and the public to evaluate refuge management goals and objectives for the best possible conservation efforts of this important wildlife habitat. Concurrently, this process is also providing for wildlife-dependent recreation opportunities that are compatible with each Refuge's establishing purposes and the mission of the NWRS.

The Aransas National Wildlife Refuge Complex is located in Aransas, Refugio and Calhoun Counties, Texas and encompasses 115,670 acres of coastal prairie, oak woodland and savannah, barrier island and salt and freshwater marshes. The CCP will provide other agencies and the public with a clear understanding of the desired conditions for the Refuge and how the Service will implement management strategies for the conservation and development of these natural resources.

The Service through this notice of intent formally begins the comprehensive conservation planning process for the Aransas National Wildlife Refuge Complex. The Service requests input on any and all issues concerning management or public recreation. Comments regarding the protection of threatened and/or endangered species, migratory birds, native species and their habitats are encouraged. The Service is equally interested in receiving public input in the following areas:

• What makes this Refuge special for you?

• What Refuge projects or activities interest you most?

• What problems or issues do you see affecting management or public use of the Refuge?

• What improvements do you recommend for the Refuge?

• What changes, if any, would you like to see in the management of the Refuge?

The Service has provided the above questions for optional use only. The Planning Team developed these questions to facilitate issues and ideas. Comments received will be used as part of the planning process. Individual comments will not be referenced in our reports or directly responded to.

The Service will continue to solicit information from the public and other agencies via open houses, meetings, and written comments. Special mailings, newspaper releases, and announcements will continue to inform people of the time and place of opportunities for further input to the CCP.

Review of this project will be conducted in accordance with the National Environmental Policy Act of 1969, as amended (42 U.S.C. 4321 et seq.), NEPA Regulations (40 CFR 1500-1508) found at (http://www.legal.gsa.gov), other appropriate Federal laws, and Service policies and procedures for compliance with those regulations.

The Service will prepare an Environmental Assessment (EA) in accordance with procedures for implementing NEPA found in the Department of the Interior Manual (DM Part 516, Chap 6). The decision to prepare an Environmental Impact Statement instead of an EA is contingent upon the complexity of issues following the scoping phase of the CCP process.

We estimate that the draft environmental documents will be available in summer 2003 for public review and comment.

Dated: July 18, 2002.
H. Dale Hall,
Regional Director.

[FR Doc. 02-22134 Filed 8-29-02; 8:45 am]

BILLING CODE 4310-55-U